SMALL BUSINESS ADMINISTRATION

[License No. 06/06-0347]

Escalate Capital Partners SBIC III, L.P.; Notice Seeking Exemption Under Section 312 of the Small Business Investment Act, Conflicts of Interest

Notice is hereby given that Escalate Capital Partners SBIC III, L.P., 300 W. 6th Street, Suite 2230, Austin, TX 78701, a Federal Licensee under the Small Business Investment Act of 1958, as amended (“the Act”), in connection with the financing of a small concern, has sought an exemption under Section 312 of the Act and Section 107.730, Financings which constitute Conflicts of Interest of the Small Business Administration (“SBA”) Rules and Regulations (13 CFR part 107). Escalate Capital Partners SBIC III, L.P. proposes to provide debt financing to Everspring, Inc., 1007 Church Street, Suite 420, Evanston, IL 60201. UTIMCO, an Associate of Escalate Capital Partners SBIC III, L.P., holds an indirect ownership interest in Everspring, Inc. of greater than 10 percent. Therefore, Everspring, Inc. is an Associate of Escalate Capital Partners SBIC III, L.P.

The financing is brought within the purview of § 107.730(a) of the Regulations because Everspring, Inc. is an Associate of Escalate Capital Partners SBIC III, L.P. Therefore this transaction requires a prior SBA exemption.

Notice is hereby given that any interested person may submit written comments on the transaction, within fifteen days of the date of this publication, to the Associate Administrator for Investment and Innovation, U.S. Small Business Administration, 409 Third Street SW., Washington, DC 20416.

Mark L. Walsh,
Associate Administrator, Office of Investment and Innovation.

[FR Doc. 2016-01412 Filed 1-22-16; 8:45 am]

BILLING CODE P